DEPARTMENT OF ENERGY

Federal Energy Regulatory Commission

[Docket Number IC09-731-001]

Information Collection; Notice of Submission to OMB for Its Review and Approval of the Voluntary Survey on Advanced Metering and Demand Response Programs

December 28, 2009.

1. Take notice that the Federal Energy Regulatory Commission staff (Commission staff) is submitting to the Office of Management and Budget (OMB), for its review and approval, a survey of demand response and time-based rate programs and tariffs, and advanced metering infrastructure (AMI). This survey will enable Commission staff to collect the necessary information to prepare a report for Congress, which assesses various aspects of demand response in the United States, as required by section 1252(e)(3) of the Energy Policy Act of 2005 (EPAct 2005).¹ The survey will be sent to approximately 3,443 electric power businesses and organizations who directly serve end-use customers. The survey results will be processed and analyzed in order to prepare the report and submit it to Congress in 2010.

¹ Public Law 109-58, section 1252(e)(3), 119 Stat. 594 (2005).

2. This survey is Commission staff's third nationwide effort to gather information on the dispersion of advanced metering and demand response programs. Continued industry cooperation is important for us to obtain information that is as accurate and up-to-date as possible, so that we may respond to Congress, and provide information to states and other market participants. Commission staff seeks to strongly encourage all survey recipients to complete the survey.

3. Commission staff has designed a survey that imposes a minimal burden on respondents by providing an easy-to-complete form that includes such user-friendly features as pre-populated fields and drop-down menus, while providing Commission staff with the information necessary to prepare the report directed by EPAct 2005 section 1253(e)(3). It is a streamlined and simplified version of past surveys and can be electronically filed. A paper version of the survey may be filed by those who are unable to file electronically.

I. Background

4. EPAct 2005 section 1252(e)(3) requires the Commission to prepare and publish a report, by appropriate region, that assesses demand response resources, including those available from all consumer classes. Specifically, EPAct 2005 requires that the Commission identify and review:

(A) Saturation and penetration rate of advanced meters and communications technologies, devices and systems;

(B) Existing demand response programs and time-based rate programs;

(C) the annual resource contribution of demand resources;

(D) the potential for demand response as a quantifiable, reliable resource for regional planning purposes;

(E) steps taken to ensure that, in regional transmission planning and operations, demand resources are provided equitable treatment as a quantifiable, reliable resource relative to the resource obligations of any load-serving entity, transmission provider, or transmitting party; and

(F) regulatory barriers to improved customer participation in demand response, peak reduction and critical period pricing programs.

5. On August 7, 2009, a notice was published in the Federal Register, 74 FR 39,682 (2009) (August 7 Notice), requesting comments on proposed updates to the FERC-727, Demand Response and Time Based Rate Programs Survey (OMB Control No. 1902-0214), and FERC-728, Advanced Metering Survey (OMB Control No. 1902-0213). In the August 7 Notice, Commission staff explained that it had investigated alternatives to fielding and collecting data using a FERC-designed survey, including using data from the North American Electric Reliability Corporation (NERC) and the Energy Information Administration (EIA). However, the data from NERC and EIA will not be available to the Commission in time to complete the 2010 report to Congress.

II. Discussion

6. Commission staff appreciate the useful comments on the survey questions submitted in response to the August 7 Notice. Within the limits of the available survey instrument, Commission staff made revisions to improve the clarity of the questions, to update the survey to capture technological advances, and to reduce the burden in responding. In certain cases, Commission staff did not make the suggested changes because more detailed information is needed to respond to the specific statutory provisions in EPAct 2005, to provide useful data, or to ensure that the survey is consistent with previous surveys. Commenters noted that this survey is much more concise than previous ones and will help reduce the collection burden significantly. Commission staff agrees, and proposes that with the updates and the changes that have been made, the survey will not be onerous to complete. Commission staff plans to encourage all potential respondents to complete the survey. A higher response rate will enable Commission staff to obtain more precise information. Below is a summary of the major changes to the survey and responses to the concerns expressed by commenters.

A. Guidance on Responding to Survey Questions

7. In response to a request for instructions or other guidance on how to calculate the potential reductions for price-based (time-based) and other voluntary programs, Commission staff has revised the survey instructions to describe possible methodologies, such as the methodologies used in A National Assessment of Demand Response Potential.² These methodologies are just examples and respondents are not required to use them. Furthermore, in order to increase transparency, the instructions request that the respondents describe their estimation method in the comment field associated with the program. Commission staff acknowledges that it may be difficult for some respondents to estimate the potential reductions for price-based programs, and recognizes that estimates of reductions for price-based programs may be less reliable than for incentive-based programs. However, Commission staff has collected this information in past surveys and sees value in the ability to compare the past and current data.

² A National Assessment of Demand Response Potential (June 2009), available at http://www.ferc.gov/legal/staff‐reports/06‐09‐demand‐response.pdf.

8. Commission staff received a general comment that even though the survey includes definitions, the lack of a single set of industry-wide definitions will lead to inaccurate results. According to the commenter, potential respondents who are aware that their data will be released publicly in an identifiable form, and that the public will likely draw comparisons from the data between respondents, may choose not to respond, or will be compelled to portray themselves in a light most favorable to its intended audience. In either situation, there is a risk that reported data will be less accurate. Commission staff agrees that the lack of industry-wide standards and precise definitions may reduce the accuracy and comparability of the survey results. However, it is not possible for Commission staff to specify each and every parameter that may be required to formulate survey responses for demand response programs that vary by geography, participation, type and sponsorship. Nevertheless, efforts are underway by the North American Energy Standards Board (NAESB) and NERC to develop such standards and definitions. Commission staff encourages survey recipients to consider the NAESB and NERC efforts and to use their best efforts to provide accurate responses.

9. In addition, the Commission received comments related to whether the results should be publicly released or aggregated so as to mask the identity of individual respondents. A commenter argues that the data should either be kept confidential or be aggregated because potential respondents may consider much of it competitively sensitive. Another commenter argues that publicly releasing the data will lead to low survey response levels. However, another commenter requests that the Commission continue to publicly release the data collected in spreadsheet format that allows the public to match and sort programs by entity, region, state, and customer class. Commission staff recognizes that confidentiality is a concern for particular sub-sets of respondents, such as curtailment service providers. However, Commission staff also recognizes that publicly releasing the information collected in the survey is useful to the public. Several researchers and market participants have told Commission staff that they are using the data. While Commission staff could attempt to aggregate the data so as to mask company origin, doing so would complicate the analysis, making it more difficult for the Commission to meet its statutory requirement for regional reporting, and make the 2010 data less comparable to the data collected in 2006 and 2008. In those surveys, the Commission allowed case-by-case requests for confidential treatment and will do so again in 2010.

10. Several commenters requested clarification on the definition of advanced meters, and one commenter suggested that the Commission should distinguish between the recording capability of the meter and its reporting intervals. Commission staff clarifies that the definition of advanced meters includes meters with one-way communication capability, as well as two-way communication capability, and declines to distinguish between the recording and reporting functions. The objective of the survey is to assess the penetration of advanced metering rather than to draw distinctions between meter varieties or to enumerate the frequency of meter reading.

11. A commenter argues that the use of the terms “number of meters” and “number of customers” in Questions Three and Seven is ambiguous. They suggest that, if the terms are synonymous, only one be used, and if the terms are not synonymous, then the difference be explained. Question Three explicitly asks for the number of customers and for the number of meters in each of three customer classes. Commission staff does not agree that the terms are ambiguous or that only a single term can be used. Some large customers have multiple meters, and some customers are unmetered, so there is not a one-to-one correspondence between the two terms. Question Seven requests only the “number of retail customers,” and does not use the term “number of meters.”

12. Commission staff clarifies that respondents may answer with either coincident or non-coincident demand. Coincident data is not always readily available and requiring respondents to provide this information would create an additional burden. Commission staff also clarifies that Question Four requests information about the number of customers that have the capability to receive data through the listed methods, rather than the number of customers who actually receive data through the listed methods.

B. Revisions to the Survey Definitions and Questions

13. According to one commenter, many respondents do not employ as many customer class categories as used in the previous surveys. Therefore respondents must either develop a system for developing the requested data by customer class, thus increasing the filing burden, or estimate their responses, reducing the accuracy of the data. In response, Commission staff has reduced the number of customer class categories to three in the 2010 survey: Residential, commercial and industrial, and other. Doing so will reduce the burden on respondents and encourage more entities to participate, without significantly reducing the value of the collected information.

14. Commission staff declines to accept a suggestion to specify in the instructions whether responses should enumerate “processes, loads, sites, or data streams” to reduce double counting of meters. While double counting may occur in the circumstances that the commenter describes, Commission staff expects such installations to be relatively uncommon. Further, it is not clear which of the suggested categories best meets the Commission's data collection objective, or precisely how a “process” differs from a “load,” for instance.

15. A commenter suggests that Question Five should ask whether demand response programs are pilot programs, or full-scale programs. Another suggests that the Commission request information about if and when respondents plan to conduct pilot programs, studies or testing, and if programs have been or will be phased out. Commission staff declines to ask whether reported demand response programs are pilot programs, or full-scale programs, as one commenter suggests. The incremental information gained from this question is not sufficient to justify the additional response burden and survey redesign. In addition, the amount of demand response reported for each program is an indicator of whether it is a pilot or full-scale program.

16. A commenter suggests including a question asking respondents to identify primary reasons leading to the implementation of a demand response program, for example, economic, reliability, emergency response, or voltage. Commission staff finds it unnecessary to adopt such a question. The list of program types that appear in the survey (for example, Critical Peak Pricing, Spinning Reserves, and Emergency Demand Response) already reflect the primary reasons for which most demand response programs are implemented.

17. For further clarity, Commission staff has revised the survey's definition of demand response programs to explicitly include both incentive-based and time-based programs. The word “Service” now follows the word “Regulation” in the list of program types in order to make it consistent with the glossary and improve clarity. Commission staff has replaced the term “regional entity” with the term “NERC Regional Entity” to avoid confusion with other uses of the term “entity.” The survey now includes a field in Question Eight to collect the number of times the respondent called on the demand response program during the year. An entry of zero in the new field will indicate that the program was not called.

III. Information Collection Statement

In compliance with the requirements of section 3507 of the Paperwork Reduction Act of 1995, 44 U.S.C. 3507 (2006), the Federal Energy Regulatory Commission (Commission or FERC) has submitted the information collection described below to OMB for review of the information collection requirements. Any interested person may file comments directly with OMB and should address a copy of those comments to the Commission as explained below. The Commission received comments in response to its earlier notice and has provided responses in this notice as discussed above and also made the notation in its submission to OMB.

DATES: Comments on the collection of information are due by February 4, 2010.

ADDRESSES: Address comments on the collection of information to the Office of Management and Budget, Office of Information and Regulatory Affairs, Attention: Federal Energy Regulatory Commission Desk Officer. Comments to OMB should be filed electronically, c/o oira_submission@omb.eop.gov and include this Docket No. IC09-731-000 as a point of reference. The Desk Officer may be reached by telephone at 202-395-4638.

A copy of the comments should also be sent to the Federal Energy Regulatory Commission and should refer to Docket No. IC09-731-000. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-731-001.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: FERC-731 (Demand Response and Time-Based Rate Programs/Tariffs”), OMB No. (To be Determined) is used by the Commission to implement EPAct 2005 section 1252(e)(3) (Pub. L. 109-58, 119 Stat. 594) (2005). EPAct 2005 section 1252(e)(3) requires the Commission to prepare and publish an annual report, by appropriate region, that assesses demand response resources, including those available from all consumer classes.

The Commission will use the information obtained by the survey to prepare and publish a report, as required by EPAct 2005 as noted above, by appropriate region that assesses demand response resources, including those available from all consumer classes and describes the saturation and penetration rate of advanced meters. With respect to other issues the Commission must address in the report, the Commission will seek assistance from state regulators and members of the industry in presenting to Congress, a well informed and comprehensive report. The proposed report will be the fifth annual report, and the third based on survey data. The continuation of the survey and reporting allows the Commission, Congress and the public to assess and follow trends in the saturation and penetration rates of advanced meters, resource contributions of demand response, and other related issues.

Action: The Commission is requesting a three-year approval of the proposed information collection.

Burden Estimate: The average public reporting burden for FERC-731 is estimated as follows.

FERC data collection | Number of respondents annually (1) | Number of responses per respondent (2) | Average burden hours per response (3) | Total annual burden hours (1)×(2)×(3)
FERC-731 | 3,443 | 1 | 4 | 13,772

The total estimated annual cost burden to respondents is $787,345 (3,443 respondents × $228.68 per respondent).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-31211 Filed 1-4-10; 8:45 am]

BILLING CODE 6717-01-P